Title 3—

The President

Proclamation 8399 of July 24, 2009

National Korean War Veterans Armistice Day, 2009

By the President of the United States of America

A Proclamation

Fifty-six years after the signing of the Military Armistice Agreement at Panmunjom, Americans remain grateful for the courage and sacrifice of our Korean War veterans. More than 600,000 United States and allied combatants lost their lives in Korea during the 3 years of bitter warfare that ended on July 27, 1953. Many were also injured, taken as prisoners of war, and missing in action. These dedicated servicemen and women, under the banner of the United Nations, fought to secure the blessings of freedom and democracy on the Korean Peninsula, and they deserve our unending respect and gratitude.

Every day we are reminded of the selfless service of these veterans. The Korean War Veterans Memorial stands in our Nation's Capital as an enduring tribute to them. Marching among juniper bushes and rows of granite, Soldiers, Marines, Sailors, Airmen, and Coast Guardsmen silently remind all who glimpse their faces of the great challenges that so many Americans overcame. The strong partnership between the United States and the Republic of Korea is also a proud testament to our men and women in uniform.

Today we remember and honor the valor of Korean War veterans and the extraordinary sacrifices that they and their families made in the cause of peace.

NOW, THEREFORE, I, BARACK OBAMA, President of the United States of America, by virtue of the authority vested in me by the Constitution and the laws of the United States, do hereby proclaim July 27, 2009, as National Korean War Veterans Armistice Day. I call upon all Americans to observe this day with appropriate ceremonies and activities that honor and give thanks to our distinguished Korean War veterans. I also ask Federal departments and agencies and interested groups, organizations, and individuals to fly the flag of the United States at half-staff on July 27, 2009, in memory of the Americans who died as a result of their service in Korea.

IN WITNESS WHEREOF, I have hereunto set my hand this twenty-fourth day of July, in the year of our Lord two thousand nine, and of the Independence of the United States of America the two hundred and thirty-fourth.

[FR Doc. E9-18281

Filed 7-28-09; 11:15 am]

Billing code 3195-W9-P